DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of February, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,016; AVX Corp., Myrtle Beach, SC

TA-W-40,034; D and M Tool, Inc., Meadville, PA

TA-W-40,039; TNS Mills, Inc., Rockingham Plant, Rockingham, NC

TA-W-40,753; Tresco Tool, Inc., Guy Mills, PA

TA-W-39,593; Muruta Electronics, North America, Inc., State College Operation, State College, PA

In the following cases, the investigation revealed that the criteria for eligibility have not been met for the reasons specified.

Increased imports did not contribute importantly to worker separations at the firm.

TA-W-40,398; R.G. Barry Texas LP, San Angelo Molding Facility, San Angelo, TX

TA-W-39,626; Great Western International, Portland, OR

TA-W-39,396; Carter Industries, Inc., Brooklyn, NY

TA-W-40,059; Valeo Electrical Systems, Inc., Rochester, NY

TA-W-40,714; Ferraz Shawmut, Inc., A Division of group Carbone Lorraine, Newburyport, MA

TA-W-40;449; Clebert's Hosiery Mill, Inc., Connelly Springs, NC

TA-W-40,473; Marlan Tool, Inc., Meadville, PA

TA-W-40,693 & A; Intervet, Inc., Gainesville, GA and State College, PA

TA-W-40,407; TRW Automotive Chassis Systems, Milford, MI

TA-W-40,627; Holland Co., Hays, KS

The workers firm does not produce an article as required for certification under Section 222 of the Trade Act of 1974.

TA-W-40,750; Mid America Building, Maintenance, Inc., Hurley, NM

TA-W-40,127; Peak Oilfield Service Co., Anchorage, AK

TA-W-40,692; VarTec CRM, Inc., Waco, TX

TA-W-40,706; Valley City Steel LLC, Valley City, OH

TA-W-40,678; Active Transportation Co., Portland Terminal, Portland, OR

Affirmative Determinations for Worker Adjustment Assistance

The following certifications have been issued; the date following the company name and location of each determination references the impact date for all workers of such determination.

TA-W-39,255; Potlatch Corp., Minnesota Pulp and Paper Div., Brainerd, MN: May 1, 2000.

TA-W-40,103; Asarco, Inc., Mission Complex, Sahurita, AZ: October 1, 2001.

TA-W-40,104 & A,B,C,D,E,F; Asarco, Inc., Hayden, AZ, Ray, AZ, Amarillo, TX, Silver Bell Mining, Marana, AZ, Salt Lke City, UT, Phoenix, AZ and Tucson, AR: August 31, 2000.

TA-W-40,132; Satilla Manufacturing, Inc., Blackshear, GA: September 14, 2000.

TA-W-40,263; Schott Scientific Glass, Inc., Parkersburg, WV: October 12, 2000.

TA-W-40,639; Cooper Bussmann, Goldsboro, NC: November 27, 2000.

TA-W-40,735 & A,B; VF Jeanswear Limited Partnership, Jackson Facility, Jackson, TN Prague Facility, Prague, OK and Seminole Facility, Seminole, OK: November 27, 2000.

TA-W-39,662; MM and E Machine, A Subsidiary of UNOVA Co., Fenton, MI: June 29 2000.

TA-W-40,669; Great Lakes Chemical Corp., Nitro, WV: December 14, 2000.

TA-W-40,702; Design and Cut, Inc., Cartersville, GA: October 18, 2000.

TA-W-40,730; Mears Tool and Die, Inc., Cochranton, PA: December 19, 2000.

TA-W-40,736 & A,B; VP Jeanswear Limited Partnership, Shenandoah Facility, Shenandoah, VA, Madison Facility, Madison VA and Luray Facility, Luray, VA: November 28, 2000.

TA-W-40,586 & A,B; VF Services, Inc., Greensboro, NC, VF Jeanswear Limited Partnership, Greensboro Facility, Greensboro, NC and Andrews Facility, Andrews, NC: November 26, 2000.

TA-W-40,596; Tyco International Limited, Tyco Electronics Power Systems, Acquired from Lucent Technologies, Mesquite, TX: October 22, 2000.

TA-W-40,659; Georgia-Pacific, Industrial Wood Products Div., Conway Hardboard Plant, Conway, NC: December 13, 2000.

TA-W-39,661; R and B Machine Tool Co., A Subsidiary of UNOVA Co., Saline, MI: June 29, 2000.

TA-W-40,395 & A; Lexmark International Lexington, KY and Longmont, CO: December 3, 2000.

TA-W-40,406 & A,B,C,D,E,F, and G; VF Jeanswear Limited Partnership, Oneonta Facility, Oneota, AL, Hanceville Facility, Hanceville, AL, Red Bay Facility, Red Bay, AL, Hackleburg Facility, Hackleburg, AL, Florence Facility, Florence, AL, Russellville Facility, Russellville, AL, Padget Facility, Irvington, AL, Holly Pond Facility, Holly Pond, AL: November 27, 2000.

TA-W-40,477; Precision, An Elamex USA Co., Louisville, KY: November 20, 2000.

TA-W-40,521 & A,B,C,D,E,F,G,H,I, and J; Republic Technologies, International, Headquartered in Akron, OH, Massillon, OH (Central Machine), Chicago, IL (Chicago Plant), Blasdell, NY (Lackawanna Plant), Lorain, OH, Massillon, OH (Hot Rolled Plant), Beaver Falls, PA, Gary, IN (E. Dune Hwy), Gary, In (E. Seventh Ave.), Harvey, IL and Massillon, OH (Cold Finished Plant): November 19, 2000.

TA-W-39,531 & A; Bill Levkoff, Inc., New York, NY and Long Island City, NY: June 21, 2000.

TA-W-39,837; Wirtz Manufacturing Co., Rubber Mold Div., Port Huron, MI: August 12, 2000.

TA-W-40,032; Laclede Steel Co., Alton, IL: August 29, 2000.

TA-W-40,302; Eurotherm Action, Inc., San Diego, CA: October 9, 2000.

TA-W-40,338; K2 Corp., Vashon, WA: November 2, 2000.

TA-W-40,348; Willamette Industries, Inc., Winston, OR: November 2, 2000.

TA-W-40,350; SIG Combibloc, Inc., Columbus, OH: November 6, 2000.

TA-W-40,378; Chrissann Dress Co., Inc., Franklin Square, NY: October 18, 2000.

Also, pursuant to Title V of the North American Free Trade Agreement Implementation Act (Pub. L. 103-182) concerning transitional adjustment assistance hereinafter called (NAFTA-TAA) and in accordance with section 250(a), subchapter D, chapter 2, Title II, of the Trade Act as amended, the Department of Labor presents summaries of determinations regarding eligibility to apply for NAFTA-TAA issued during the month of February, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05312B; Rockwell Automation, Components and Packaged Application Group, Department 240, Milwaukee, WI

NAFTA-TAA-05077; Carter Industries, Inc., Brooklyn, NY

NAFTA-TAA-05272; AVX Corp., Myrtle Beach, SC

NAFTA-TAA-05588; TRW Automotive, Chassis Systems, Milford, MI

The workers firm does not produce an article as required for certification under section 250(a), subchapter D, chapter 2, Title II, the Trade Act of 1974, as amended.

NAFTA-TAA-05729; M S Chambers and Son, Baltic, CT

NAFTA-TAA-05747; Parker Hannifin Corp., Precision Rebuilding Div., Reading, PA

Affirmative Determinations NAFTA-TAA

NAFTA-TAA-05804; R.G. Barry Corp., Laredo, TX: January 28, 2001.

NAFTA-TAA-05312 & A,C,D; Rockwell Automation, Components and Packaged Application Group, Department 214, Milwaukee, WI, Department 238, Milwaukee, WI, Department 250/270, Milwaukee, WI, Department 260, Milwaukee, WI: September 10, 2000.

NAFTA-TAA-05640 & A,B,C,D,E,F, and G; VF Jeanswear Limited Partnership, Oneonta Facility, Oneonta, AL, Hanceville Facility, Hanceville, AL, Red Bay Facility, Red Bay, AL, Hackleburg Facility, Hackleburg, AL, Florence Facility, Florence, AL, Russellville Facility, Russellville, AL, Padget Facility, Irvington, AL and Holly Pond Facility, Holly Pont, AL: November 27, 2000.

NAFTA-TAA-05716; VF Jeanswear Limited Partnership, Prague Facility, Prague, OK and Seminole Div., Seminole, OK: January 8, 2001.

NAFTA-TAA-05676; Nortel Networks, Qtera/Operations, Boca Raton, FL: December 6, 2000.

NAFTA-TAA-05645; Eurotherm Action, Inc., San Diego, CA: October 10, 2000.

NAFTA-TAA-05631 & A,B; VF Jeanswear Limited Partnership, Shenandoah Facility, Shenandoah, VA, Madison Facility, Madison, VA and Luray Facility, Luray, VA: November 15, 2000.

NAFTA-TAA-05498; Willamette Industries, Inc., Winston, OR: November 2, 2000.

NAFTA-TAA-05484; Maysville Garment, Inc., Maysville, NC: October 12, 2000.

NAFTA-TAA-05225; Illbruck Automotive, Inc., Howell, MI: August 23, 2000.

NAFTA-TAA-04969; Symbol Technologies, Holtsville, NY and Bohemia, NY: May 16, 2000.

NAFTA-TAA-05669; Midcom, Inc., Huron, SD and Watertown, SD: December 3, 2000.

I hereby certify that the aforementioned determinations were issued during the month of February, 2002. Copies of these determinations are available for inspection in Room C-5311, U.S. Department of Labor, 200 Constitution Avenue, NW, Washington, DC 20210 during normal business hours or will be mailed to persons who write to the above address.

Dated: February 22, 2002.
Edward A. Tomchick,
Director, Division of Trade Adjustment Assistance.

[FR Doc. 02-4725 Filed 2-27-02; 8:45 am]

BILLING CODE 4510-30-M